DEPARTMENT OF COMMERCE

International Trade Administration

[A-427-602]

Brass Sheet and Strip From France: Preliminary Results of Antidumping Duty Administrative Review; 2014-2015

AGENCY: Enforcement and Compliance, International Trade Administration, Department of Commerce.

SUMMARY: The Department of Commerce (the Department) is conducting an administrative review of the antidumping duty order on brass sheet and strip from France,¹ pursuant to section 751(a)(1) of the Tariff Act of 1930, as amended (the Act). This review covers two companies, Griset SA (Griset) and KME France SAS (KME France). The period of review (POR) is March 1, 2014, through February 28, 2015. We preliminarily find that subject merchandise has been sold at less than normal value by both Griset and KME France. Interested parties are invited to comment on these preliminary results.

¹ See Antidumping Duty Order; Brass Sheet and Strip From France, 52 FR 6995 (March 6, 1987) (the Order).

DATES: Effective Date: December 1, 2015.

FOR FURTHER INFORMATION CONTACT: Mark Flessner or Robert James, AD/CVD Operations, Office VI, Enforcement and Compliance, International Trade Administration, U.S. Department of Commerce, 14th Street and Constitution Avenue NW., Washington, DC 20230; telephone: (202) 482-6312 or (202) 482-0649, respectively.

SUPPLEMENTARY INFORMATION:

Scope of the Order

The product covered by the orders is brass sheet and strip, other than leaded and tinned brass sheet and strip, from France. The merchandise is currently classified under Harmonized Tariff Schedule of the United States (HTSUS) item numbers 7409.21.00 and 7409.29.00.

A full description of the scope of the order is contained in the Preliminary Decision Memorandum.² The written description is dispositive.

² See memorandum from Christian Marsh, Deputy Assistant Secretary for Antidumping and Countervailing Duty Operations, to Paul Piquado, Assistant Secretary for Enforcement and Compliance, entitled “Decision Memorandum for Preliminary Results of the 2014-2015 Antidumping Duty Administrative Review: Brass Sheet and Strip from France” (Preliminary Decision Memorandum), dated concurrently with this notice.

Methodology

Because both Griset and KME France failed to respond to the Department's questionnaire, we preliminarily determined to rely on facts available with an adverse inference with respect to Griset and KME France, in accordance with sections 776(a) and (b) of the Act and 19 CFR 351.308. Thus, we preliminarily assigned a rate of 42.24 percent as the weighted-average dumping margin for both Griset and KME France.³ For a full description of the methodology underlying our conclusions, see the Preliminary Decision Memorandum. The Preliminary Decision Memorandum is a public document and is made available to the public via Enforcement and Compliance's Antidumping and Countervailing Duty Centralized Electronic Service System (ACCESS). ACCESS is available to registered users at http://access.trade.gov and is available to all parties in the Central Records Unit, room B8024 of the main Department of Commerce building. In addition, a complete version of the Preliminary Decision Memorandum can be accessed directly on the Internet at http://enforcement.trade.gov/frn/index.html. A list of topics included in the Preliminary Decision Memorandum is included in Appendix I attached to this notice. The signed Preliminary Decision Memorandum and the electronic versions of the Preliminary Decision Memorandum are identical in content.

³ Because this was an AFA rate derived from the petition in the investigation, the rate was not subject to the Department's so-called “zeroing” methodology. See Brass Sheet and Strip From France, Italy, and Japan: Final Results of the Expedited Third Sunset Reviews of the Antidumping Duty Orders, 76 FR 39849 (July 7, 2011) and accompanying Issues and Decision memorandum at 1-3 (“History of the Orders” section); see also the Order; see also Brass Sheet and Strip from France: Final Determination of Sales at Less than Fair Value, 52 FR 812 (January 9, 1987).

Preliminary Results of Review

As a result of this review, we preliminarily determine that the following weighted-average dumping margins on brass sheet and strip from France exist for the period March 1, 2014, through February 28, 2015, at the following rates:

Producer or exporter | Estimated weighted- average dumping margin (Percent)
Griset SA | 42.24
KME France SAS | 42.24

Disclosure and Public Comment

Pursuant to 19 CFR 351.309(c), interested parties may submit case briefs not later than 30 days after the date of publication of this notice. Rebuttal briefs, limited to issues raised in the case briefs, may be filed not later than five days after the date for filing case briefs.⁴ Parties who submit case briefs or rebuttal briefs in this proceeding are encouraged to submit with each argument: (1) A statement of the issue; (2) a brief summary of the argument; and (3) a table of authorities.⁵ Pursuant to 19 CFR 351.310(c), interested parties who wish to request a hearing must submit a written request to the Assistant Secretary for Enforcement and Compliance within 30 days after the date of publication of this notice.⁶ Requests should contain: (1) The party's name, address and telephone number; (2) the number of participants; and (3) a list of issues to be discussed. Issues raised in the hearing will be limited to those raised in the respective case briefs.

⁴ See 19 CFR 351.309(d).

⁵ See 19 CFR 351.303 (for general filing requirements).

⁶ See 19 CFR 351.310(c).

When submitting a document to the Department via the Department's electronic records system, ACCESS, the document must be received successfully in its entirety by 5 p.m. Eastern Time on the date on which it is due.

The Department intends to issue the final results of this administrative review, including the results of its analysis of the issues raised in any written briefs, not later than 120 days after the date of publication of this notice, unless extended, pursuant to section 751(a)(3)(A) of the Act.

Assessment Rates

Upon completion of the administrative review, the Department shall determine, and U.S. Customs and Border Protection (CBP) shall assess, antidumping duties on all appropriate entries covered by this review. For the final results, if we continue to rely on adverse facts available to establish the weighted-average dumping margins for Griset and KME France, we will instruct U.S. Customs and Border Protection (CBP) to apply an ad valorem assessment rate of 42.24 percent to all entries of subject merchandise during the POR which were produced and/or exported by Griset or KME France.

The Department clarified its “automatic assessment” regulation on May 6, 2003.⁷ This clarification will apply to entries of subject merchandise during the POR produced by the respondent for which it did not know its merchandise was destined for the United States. In such instances, we will instruct CBP to liquidate un-reviewed entries at the all-others rate if there is no rate for the intermediate company involved in the transaction.⁸

⁷ See Antidumping and Countervailing Duty Proceedings: Assessment of Antidumping Duties, 68 FR 23954 (May 6, 2003).

⁸ Id.

We intend to issue liquidation instructions to CBP 15 days after publication of the final results of review.

Cash Deposit Requirements

The following deposit requirements will be effective upon publication of the notice of final results of administrative review for all shipments of brass sheet and strip from France entered, or withdrawn from warehouse, for consumption on or after the date of publication as provided by section 751(a)(2) of the Act: (1) The cash deposit rate for Griset and KME France will be equal to the weighted-average dumping margin established in the final results of this administrative review except if the rate is de minimis within the meaning of 19 CFR 351.106(c)(1), in which case the cash deposit rate will be zero; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the original less-than-fair-value investigation but the manufacturer is, the cash deposit rate will be the rate established for the most recently completed segment of the proceeding for the manufacturer of the merchandise; (4) the cash deposit rate for all other manufacturers or exporters will continue to be 42.24 percent ad valorem, the all-others rate established in the less-than-fair-value investigation.⁹ These cash deposit requirements, when imposed, shall remain in effect until further notice.

⁹ See the Order at 52 FR 6996.

Notifications to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification to Interested Parties

We are issuing and publishing these results in accordance with sections 751(a)(1) and 777(i)(1) of the Act.

Dated: November 17, 2015.
Paul Piquado,
Assistant Secretary for Enforcement and Compliance.

Appendix

List of Topics Discussed in the Preliminary Decision Memorandum

A. Summary

B. Background

C. Scope of the Order

D. Discussion of the Methodology

1. Application of Facts Available and Use of Adverse Inference

a. Use of Facts Available

b. Application of Facts Available With an Adverse Inference

c. Selection and Corroboration of Information Used as Facts Available

E. Recommendation

[FR Doc. 2015-30500 Filed 11-30-15; 8:45 am]

BILLING CODE 3510-DS-P